DEPARTMENT OF AGRICULTURE

Office of the Under Secretary

Notice of Appointment of Members to the National Agricultural Research, Extension, Education, and Economics Advisory Board

AGENCY: Research, Education, and Economics, USDA.

ACTION: Appointment of members.

SUMMARY: In accordance with the Federal Advisory Committee Act, 5 U.S.C. App., the United States Department of Agriculture announces the appointments to the 11 vacancies on the National Agricultural Research, Extension, Education, and Economics Advisory Board.

DATES: Appointments are for a three-year term, effective October 1, 2002, until September 30, 2005, with the exception of one one-year appointment resulting from a member resignation after serving two years.

ADDRESSES: National Agricultural Research, Extension, Education, and Economics Advisory Board; Research, Education, and Economics Advisory Board Office, Room 344A, Jamie L. Whitten Building; U.S. Department of Agriculture, STOP 2255; 1400 Independence Avenue, SW., Washington, DC 20250-2255.

FOR FURTHER INFORMATION CONTACT: Deborah Hanfman, Executive Director, telephone: (202) 720-3684; fax: (202) 720-6199; e-mail: dhanfman@reeusda.gov.

SUPPLEMENTARY INFORMATION: Section 802 of the Federal Agricultural Improvement and Reform Act of 1996 authorized the creation of the National Agricultural Research, Extension, Education, and Economics Advisory Board. The Board is composed of 30 members, each representing a specific category related to agriculture. The Board was first appointed in September 1996 and at that time one-third of the original 30 members were appointed for a one, two, and three-year term, respectively. Due to the staggered appointments, the terms for 11 of the 30 members who represent 11 specific categories expired September 30, 2002. The Secretary of Agriculture has made appointments for all 11 of the vacant categories. Appointees by category of the 10 new members and one re-appointment are as follows: Representing Category B. “Farm Cooperatives,” David Graves, President of the National Council of Farmer Cooperatives, Washington, DC; Category D. “Plant Commodity Producers,” Tonya Antle, Vice President, Natural Selection Foods, San Juan Bautista, California; Category G. “National Aquaculture Associations,” Ronald W. Hardy, Director of the Hagerman Fish Culture Experiment Station, University of Idaho, Hagerman, Idaho; Category J. “National Food Science Organizations,” Phillip E. Nelson, Head of the Department of Food Science at Purdue University, West Lafayette, Indiana; Category L. “National Nutritional Science Societies,” John W. Suttie, Professor at the University of Wisconsin, Madison, Wisconsin; Category M. “1862 Land-Grant Colleges and Universities,” Thomas Alvin Fretz, Dean and Director of the College of Agriculture and Natural Resources, University of Maryland, College Park, Maryland; Category R. “Scientific Community Not Closely Associated with Agriculture,” Ghassem Asrar, Associate Administrator for Earth Science at NASA, Washington, DC; Category U. “Food and Fiber Processors”, Gilbert Leveille (one year term), Vice President of Technology and Food Systems Design at Cargill, Inc., and President of the Riley Memorial Foundation, Wayzata, Minnesota; Category AA. “An Agency of USDA Lacking Research Capabilities,” Homer Wilkes (re-appointed), State Conservationist for the Natural Resources Conservation Service, U.S. Department of Agriculture, Jackson, Mississippi; Category BB. “Research Agency of the Federal Government other than USDA,” Clifford Gabriel, Deputy Associate Director for Science at the Executive Office of the President, White House Office of Science and Technology Policy, Washington, DC; and Category DD. “National Organization Directly Concerned with Research, Education, and Extension,” Krishna Rao Dronamraju, President of the Foundation for Genetic Research, Houston, Texas.

Done at Washington, DC this 24th day of December 2002.
Joseph J. Jen,
Under Secretary, Research, Education, and Economics.

[FR Doc. 03-210 Filed 1-3-03; 8:45 am]

BILLING CODE 3410-22-P